DEPARTMENT OF JUSTICE

Notice of Lodging of Proposed Consent Decree under the Resource Conservation and Recovery Act and Comprehensive Environmental Response, Compensation and Liability Act

On September 22, 2020, the Department of Justice lodged a proposed Consent Decree and Settlement Agreement Regarding the Non-Performing Properties (“Settlement Agreement”) with the United States Bankruptcy Court for the District of Delaware in the matter entitled In re Exide Holdings, Inc., et al., Case No. 20-11157(CSS).

The United States, on behalf of the Environmental Protection Agency, lodged this Settlement Agreement with Exide Holdings, Inc. and its Debtor Affiliates (collectively the “Debtors”), the Florida Department of Environmental Protection, the Georgia Environmental Protection Division of the Department of Natural Resources, the Illinois Environmental Protection Agency, the State of Indiana on Behalf of Indiana Department of Environmental Management, the Louisiana Department of Environmental Quality, the Mississippi Department of Environmental Quality, the Commonwealth of Pennsylvania Department of Environmental Protection, the South Carolina Department of Health & Environmental Control, the Tennessee Department of Environment and Conservation, and the Texas Commission on Environmental Quality, Westchester Fire Insurance Company, the Environmental Trustee, the Consenting Creditors, the Transferred Entities, the Europe/ROW Purchaser, and the Trustees, each of which are defined in the Settlement Agreement.

The Settlement Agreement relates to the Debtors' Non-Performing Properties and will be incorporated into Debtors' proposed Chapter 11 Plan. The Settlement Agreement contains covenants not to sue and reservations under the Resource Conservation and Recovery Act, 42 U.S.C. 6901 et seq., the Comprehensive Environmental Response, Compensation, and Liability Act, 42 U.S.C. 9601 et seq., certain other actions, and under similar state laws.

The Settlement Agreement requires, among other provisions, the Debtors to transfer certain properties to an environmental response trust or trusts which will be created pursuant to the agreement; certain secured creditors to make, or cause to be made, up to $10,000,000 in payments to the environmental response trusts; and Westchester Fire Insurance Company to pay the full penal sum of certain surety bonds it issued of up to approximately $34.7 million for environmental liabilities for certain of the Non-Performing Properties.

The publication of this notice opens a period for public comment on the Settlement Agreement. Comments should be addressed to the Section Chief, Environmental Enforcement Section, and should refer to In re Exide Holdings, Inc., et al., Case No. 20-11157(CSS), D.J. Ref. No. 90-11-2-07802/8. All comments must be submitted so as to be received by no later than October 6, 2020. Comments may be submitted either by email or by mail:

To submit comments: | Send them to:
By e-mail | pubcomment-ees.enrd@usdoj.gov.
By mail | Section Chief, U.S. DOJ—ENRD—EES, P.O. Box 7611, Washington, DC 20044-7611.

Under section 7003(d) of RCRA, a commenter may request an opportunity for a public meeting in the affected area.

During the public comment period, the Settlement Agreement may be examined and downloaded at this Justice Department website: https://www.justice.gov/enrd/consent-decrees. We will provide a paper copy of the Settlement Agreement upon written request and payment of reproduction costs. Please mail your request and payment to:

Consent Decree Library, U.S. DOJ— ENRD, P.O. Box 7611, Washington, DC 20044-7611.

Please enclose a check or money order for $80.50 (25 cents per page reproduction cost) payable to the United States Treasury. For a paper copy without the exhibits and signature pages, the cost is $21.00.

Susan M. Akers,
Assistant Section Chief, Environmental Enforcement Section, Environment and Natural Resources Division.

[FR Doc. 2020-21256 Filed 9-24-20; 8:45 am]

BILLING CODE 4410-15-P